ENVIRONMENTAL PROTECTION AGENCY

[EPA-HQ-OPP-2009-1017; FRL-8845-5]

Product Cancellation Order for Certain Pesticide Registrations

AGENCY: Environmental Protection Agency (EPA).

ACTION: Notice.

SUMMARY: This notice announces EPA's order for the cancellations, voluntarily requested by the registrants and accepted by the Agency, of the products listed in Table 1 of Unit II., pursuant to section 6(f)(1) of the Federal Insecticide, Fungicide, and Rodenticide Act (FIFRA), as amended. This cancellation order follows an August 4, 2010 Federal Register Notice of Receipt of Requests from the registrants listed in Table 2 of Unit II. to voluntarily cancel these product registrations. In the August 4, 2010 notice, EPA indicated that it would issue an order implementing the cancellations, unless the Agency received substantive comments within the 30-day comment period that would merit its further review of these requests, or unless the registrants withdrew their requests. The Agency did not receive any comments on the notice. Further, the registrants did not withdraw their requests. Accordingly, EPA hereby issues in this notice a cancellation order granting the requested cancellations. Any distribution, sale, or use of the products subject to this cancellation order is permitted only in accordance with the terms of this order, including any existing stocks provisions.

DATES: The cancellations are effective September 15, 2010.

FOR FURTHER INFORMATION CONTACT: Maia Tatinclaux, Pesticide Re-evaluation Division (7508P), Office of Pesticide Programs, Environmental Protection Agency, 1200 Pennsylvania Ave., NW., Washington, DC 20460-0001; telephone number: (703) 347-0123; fax number: (703) 308-8090; e-mail address: tatinclaux.maia@epa.gov.

SUPPLEMENTARY INFORMATION:

I. General Information

A. Does this action apply to me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action. If you have any questions regarding the applicability of this action to a particular entity, consult the person listed under FOR FURTHER INFORMATION CONTACT.

B. How can I get copies of this document and other related information?

EPA has established a docket for this action under docket identification (ID) number EPA-HQ-OPP-2009-1017. Publicly available docket materials are available either in the electronic docket at http://www.regulations.gov or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

II. What action is the agency taking?

This notice announces the cancellation, as requested by registrants, of 76 products registered under FIFRA section 3. These registrations are listed in sequence by registration number in Table 1 of this unit.

Table 1—Product Cancellations
Registration No. | Product name | Active ingredients
000004-00146 | Crabgrass Preventer and Weed Killer | Siduron.
000004-00179 | Crabgrass Preventer and Weed Killer | Siduron.
000004-00355 | Bonide Home Orchard Spray | Malathion, Captan, Sulfur.
000004-00375 | Bonide Porch, Patio, Garden and Ornamental Spray | Piperonyl butoxide, Pyrethrins.
000004-00386 | Bonide Pyrethrin Growers Spray | Pyrethrins.
000239-02523 | Flea-B-Gon Flea Killer Formula II | Tetramethrin, Phenothrin.
000239-02524 | Ortho Home and Garden Insect Killer Formula II | Tetramethrin, Phenothrin.
000239-02525 | Ortho Flying and Crawling Insect Killer Formula II | Tetramethrin, Phenothrin.
000239-02535 | Ortho Dog and Cat Flea Spray | Tetramethrin, Phenothrin.
000241-00295 | Arsenal Herbicide 0.5 Granule | Imazapyr.
000241-00308 | Arsenal 5-G Herbicide | Imazapyr.
000270-00356 | Mycodex Premise Control Household Spray | Tetramethrin, Phenothrin, Pyriproxyfen.
000464-00665 | Dow Diesel Fuel Conditioner | 4-(2-Nitrobutyl) morpholine, Morpholine, 4,4′-(2-ethyl-2-nitro-1,3-propanediyl)bis-.
000464-00678 | Fuelsaver F-15-Fuel Additive | 4-(2-Nitrobutyl) morpholine, Morpholine, 4,4′-(2-ethyl-2-nitro-1,3-propanediyl)bis-.
000499-00291 | Whitmire Sumithrin ME | Phenothrin.
000499-00321 | Whitmire PT 120-3 | Phenothrin.
000499-00381 | Whitmire PT 175 | MGK 264, Piperonyl butoxide, Pyrethrins.
000499-00389 | Whitmire PT 120 HO Sumithrin Contact Insecticide | Phenothrin.
000506-00140 | Tat Hornet and Wasp Killer | Phenothrin, Tetramethrin.
000524-00478 | Bollgard BT Cotton | Bacillus thuringiensis var. kurstaki delta endotoxin protein as produced by the Cry1A(c) gene and its controlling sequences.
001020-00014 | Oakite Biocide 20 | Poly (oxy-1,2-ethanediyl(dimethylimino)-1,2-ethanediyl(dimethylimino)-1,2-ethanediyl dichloride.
001021-01393 | Multicide® Concentrate 2128 | Phenothrin.
001021-01557 | Multicide Intermediate 2471 | Phenothrin.
001021-01719 | Pyrocide Insecticide II | Piperonyl butoxide, Pyrethrins, Silicon dioxide.
001021-01843 | Permethrin 10% Pour On | Permethrin.
001021-01844 | Permethrin 0.25% Granules | Permethrin.
001021-01848 | Permethrin 3.2 MUP | Permethrin.
001021-01849 | Permethrin 0.5%G Homeowner | Permethrin.
001021-01850 | Permethrin 0.5%GC | Permethrin.
001270-00073 | Zep Thermo-Fog Insecticide | MGK 264, Piperonyl butoxide, Pyrethrins.
002217-00854 | EH1392 Herbicide | Propanoic acid, 2-(4-((5-(trifluoromethyl)-2-pyridinyl)oxy)phenoxy)-, butil ester,®.
002517-00076 | Sergeant's X-term Household Flea and Tick Killer with Nylar | Tetramethrin, Phenothrin, Pyriproxyfen.
002724-00529 | Speer Household Insect Killer | Phenothrin, Tetramethrin.
002724-00530 | Speer Household Insect Spray | Phenothrin, Tetramethrin.
002724-00533 | Speer Magic Guard Insect Killer | Phenothrin, Tetramethrin.
002724-00536 | Speer Automatic Indoor Fogger | Phenothrin, Tetramethrin.
002724-00537 | Better World House and Garden Insect Killer | Phenothrin, Tetramethrin.
002724-00538 | Speer Pyrethroid Concentrate T-12/4 (Oil Dilutable) | Phenothrin, Tetramethrin.
002724-00540 | Purr-R-Fect Pet (Pressurized) Flea Spray for Cats | Phenothrin, Tetramethrin.
002724-00541 | Purr-R-Fect Pet Flea Spray for Cats | Phenothrin, Tetramethrin.
002724-00542 | Better World Brand Pressurized Plant Spray | Phenothrin, Tetramethrin.
002724-00543 | Happy Dog (Pressurized) Flea and Tick Spray for Dogs | Phenothrin, Tetramethrin.
002724-00545 | Speer Six-Month Mothproofer | Phenothrin, Tetramethrin.
002724-00547 | Happy Dog Flea and Tick Spray for Dogs | Phenothrin, Tetramethrin.
002724-00549 | Speer Fogger and Contact Insecticide | Phenothrin, Tetramethrin.
002724-00597 | Farnam Flying Insect Killer | Phenothrin, Tetramethrin.
002724-00599 | Repel-X II | Butoxypolypropylene glycol, Tetramethrin, Phenothrin.
002724-00604 | Farnam Flying Insect Killer | Phenothrin, Tetramethrin.
002724-00615 | Mug-A-Bug VI Total Release Aerosol Fogger | Phenothrin, Tetramethrin.
002724-00663 | Speer Flea Spray for Carpets and Furniture with Nylar | Phenothrin, Tetramethrin, Pyriproxyfen.
004313-00087 | Wasp and Hornet Killer “Jet Stream” | Tetramethrin, Phenothrin.
004822-00172 | Raid Household Flying Insect Killer Formula 3 | Bioallethrin, Phenothrin.
004822-00465 | P/P Flea and Tick Spray No. 2 | Phenothrin, Tetramethrin.
005178-00004 | Fish Brand E Mosquito Coils | Bioallethrin.
006836-00123 | Glybrom RW-95 | 2,4-Imidazolidinedione, 1-bromo-3-chloro-5,5-dimethyl- and 1-3-Dibromo-5,5-dimethylhydantoin.
006836-00250 | Dantobrom P Granular | 2,4-Imidazolidinedione, 1-bromo-3-chloro-5,5-dimethyl-; 1-3-Dibromo-5,5-dimethylhydantoin and 1-3, Dichloro-5-ethyl-5-methylhydantonin.
008848-00042 | Black Jack Flea and Tick Killer for Carpets and Rugs | Phenothrin, Tetramethrin.
010308-00014 | Vape Mat | d-Allethrin.
010308-00015 | Pynamin Forte 60 Mosquito Mat | d-Allethrin.
010308-00016 | Pynamin Forte 120 Mosquito and Fly Mat | d-Allethrin.
010308-00017 | Pynamin Forte Mosquito Coil | d-Allethrin.
019173-00347 | Macco Industrial Strength Pyrethrin | Piperonyl butoxide, Pyrethrins, Xylene range aromatic solvent.
019713-00313 | Pearsons Institutional Bug Killer | Piperonyl butoxide, Pyrethrins.
019713-00315 | Pearson's Grain Spray | Piperonyl butoxide, Pyrethrins.
019713-00347 | Macco Industrial Strength Pyrethrin | Piperonyl butoxide, Pyrethrins, Xylene range aromatic solvent.
019713-00348 | Macco Pyrethrin Fogging Spray | Piperonyl butoxide, Pyrethrins, Xylene range aromatic solvent.
019713-00349 | Macco Dairy Spray | Piperonyl butoxide, Pyrethrins.
047371-00138 | Formulation RTU-451 | Alkyl dimethyl benzyl ammonium chloride (50% c14, 40% C12, 10% C16).
047371-00177 | Formulation RTU-PA 1210 | Alkyl dimethyl benzyl ammonium chloride (50% c14, 40% C12, 10% C16) and 1-Decanaminuim, N-decyl-N,N-dimethyl-chloride.
053883-00031 | Permethrin Technical | Permethrin.
070127-00004 | Beetleball Technical | Benzene,1-methoxy-4-(2-propenyl)-.
070506-00199 | TOTH 80 WP | Fentin hydroxide.
070506-00203 | Tebuconazole 3.6FL Liquid Flowable Fungicide | Tebuconazole.
070506-00204 | Tebuconazole 45 WDG | Tebuconazole.
075341-00005 | Cop-R-Plastic Wood Preserving Compound | Copper naphthenate, Sodium fluoride.
075844-00003 | Freedom Premise Spray | Deltamethrin.

Table 2 of this unit includes the names and addresses of record for all registrants of the products in Table 1 of this unit, in sequence by EPA company number. This number corresponds to the first part of the EPA registration numbers of the products listed in Table 1 of this unit.

Table 2—Registrants of Cancelled Products
EPA Company No. | Company name and address
4 | Bonide Products, Inc., Agent Registrations By Design, Inc., P.O. Box 1019, Salem, VA 24153-3805.
239 | The Scotts Company, P.O. Box 190, Marysville, OH 43040.
241 | BASF Corporation, 26 Davis Drive, P.O. Box 13528, Research Triangle Park, NC 27709-3528.
270 | Farnam Companies, Inc., D/B/A Central Life Sciences, 301 West Osborn Road, Phoenix, AZ 85013.
464 | The Dow Chemical Company, 1500 East Lake Cook Road, Buffalo Grove, IL 60089.
499 | Whitmire Micro-Gen Research Laboratories, Inc., BASF CORP., 3568 Tree Court Industrial Blvd., St. Louis, MO 63122-6682.
506 | Walco Linck Company, 30856 Rocky Rd., Greeley, CO 80631-9375.
524 | Monsanto Company, 1300 I Street, NW., Suite 450 East, Washington, DC 20005.
1020 | Chemetall U.S, Inc., 675 Central Avenue, New Providence, NJ 07974-0007.
1021 | McLaughlin Gormley King Company, 8810 Tenth Ave North, Minneapolis, MN 55427-4319.
1270 | ZEP Inc., 1310 Seaboard Industrial Blvd. NW., Atlanta, GA 30318.
2217 | PBI/Gordon Corp., 1217 West 12th Street, P.O. Box 014090, Kansas City, MO 64101-0090.
2517 | Sergeant's Pet Care Products, Inc., 2625 South 158th Plaza, Omaha, NE 68130-1703.
2724 | Wellmark International, 1501 E. Woodfield Rd., Suite 200 West, Schaumburg, IL 60173.
4313 | Carroll Company, 2900 W Kingsley Rd., Garland, TX 75041.
4822 | S.C. Johnson and Son, Inc., 1525 Howe St., Racine, WI 53403.
5178 | Blood Protection Co. Ltd., P.O. Box 65436, Tucson, AZ 85728.
6836 | Lonza Inc., 90 Boroline Road, Allendale, NJ 07401.
8848 | Safeguard Chemical Corp., 8203 West 20th Street, Suite A, Greeley, CO 80634-4696.
10308 | Sumitomo Chemical Company Ltd., 1600 Riviera Avenue, Suite 200, Walnut Creek, CA 94596-8025.
19713 | Drexel Chemical Company, 1700 Channel Ave., PO Box 13327, Memphis, TN 38113-0327.
47371 | H&S Chemicals Division, 90 Boroline Road, Allendale, NJ 07401.
53883 | Control Solutions, Inc., 427 Hide Away Circle, Cub Run, KY 42729.
70127 | Novozymes Biologicals, Inc., 1150 Conn. Ave., NW., Suite 1100, Washington, DC 20036.
70506 | United Phosphorus, Inc., 630 Freedom Business Center, Suite 402, King of Prussia, PA 19406.
75341 | Osmose Utility Services Inc., 980 Ellicott Street, Buffalo, NY 14209.
75844 | Andrew M. Martin Co. NV. Inc., Agent Technology Sciences Group Inc., 4061 N. 156th Dr., Goodyear, AZ 85338.

III. Summary of Public Comments Received and Agency Response to Comments

During the public comment period provided, EPA received no comments in response to the August 4, 2010 Federal Register notice, announcing the Agency's receipt of the requests for voluntary cancellations of products listed in Table 1 of Unit II.

IV. Cancellation Order

Pursuant to FIFRA section 6(f), EPA hereby approves the requested cancellations of the registrations identified in Table 1 of Unit II. Accordingly, the Agency hereby orders that the product registrations identified in Table 1 of Unit II are canceled. The effective date of the cancellations that are subject of this notice is September 15, 2010. Any distribution, sale, or use of existing stocks of the products identified in Table 1 of Unit II. in a manner inconsistent with any of the provisions for disposition of existing stocks set forth in Unit VI. will be a violation of FIFRA.

V. What is the agency's authority for taking this action?

Section 6(f)(1) of FIFRA provides that a registrant of a pesticide product may at any time request that any of its pesticide registrations be canceled or amended to terminate one or more uses. FIFRA further provides that, before acting on the request, EPA must publish a notice of receipt of any such request in the Federal Register. Thereafter, following the public comment period, the EPA Administrator may approve such a request. The notice of receipt for this action was published for comment in the Federal Register issue of August 4, 2010 (75 FR 46926) (FRL-8837-6), the comment period closed on September 3, 2010.

VI. Provisions for Disposition of Existing Stocks

Existing stocks are those stocks of registered pesticide products which are currently in the United States and which were packaged, labeled, and released for shipment prior to the effective date of the cancellation action. The existing stocks provisions for the products subject to this order are as follows.

A. Disposition of Existing Stocks for All Table 1 Products Except EPA Reg. No. 524-478

The registrants may continue to sell and distribute existing stocks of products listed in Table 1 of Unit II. (except EPA Reg. No. 524-478) until September 15, 2011, which is 1 year after the publication of the Cancellation Order in the Federal Register. Thereafter, the registrants are prohibited from selling or distributing products listed in Table 1, except for export in accordance with FIFRA section 17, or proper disposal. Persons other than the registrants may sell, distribute, or use existing stocks of products listed in Table 1 of Unit II. (except EPA Reg. No. 524-478) until existing stocks are exhausted, provided that such sale, distribution, or use is consistent with the terms of the previously approved labeling on, or that accompanied, the canceled products.

B. Disposition of Existing Stocks for EPA Reg. No. 524-478

In accordance with a “phase-out” agreement negotiated with Monsanto Company in conjunction with an amendment request for EPA Reg. No. 524-478, all sale, distribution, and planting of Bollgard® Cotton (EPA Reg. No. 524-478) is prohibited after July 1, 2010. The terms of the negotiated U.S. phase-out strategy include:

1. Production of Bollgard® Cotton (EPA Reg. No. 524-478) by Monsanto Company after September 30, 2009, is prohibited.

2. All sales of Bollgard® Cotton after September 30, 2009, are prohibited.

3. Planting of Bollgard® Cotton seed after midnight of July 1, 2010, is prohibited.

4. All Bollgard® Cotton seed not planted on or before July 1, 2010, must be returned either to the retailer or to Monsanto Company. As a consequence of the U.S. phase-out strategy for Bollgard® Cotton, sale, distribution, and/or planting of Bollgard® Cotton is prohibited. All existing stocks must be returned to Monsanto Company or to an authorized retailer.

List of Subjects

Environmental protection, Pesticides and pests.

Dated: September 7, 2010.
Richard P. Keigwin, Jr.,
Director, Pesticide Re-evaluation Division, Office of Pesticide Programs.

[FR Doc. 2010-22993 Filed 9-14-10; 8:45 am]

BILLING CODE 6560-50-P